DEPARTMENT OF ENERGY

Federal Energy Regulatory Commission

[Docket Nos. RP02-99-004 and RP02-144-004]

Transcontinental Gas Pipe Line Corporation; Notice of Compliance Filing

September 18, 2002.

Take notice that on September 12, 2002 Transcontinental Gas Pipe Line Corporation (Transco) tendered for filing as part of its FERC Gas Tariff, Third Revised Volume No. 1, First Revised Sixth Revised Sheet No. 33 and Eighth Revised Sheet No. 33, with proposed effective dates of September 5, 2002 and October 1, 2002.

Transco states that the filing was made pursuant to Ordering Paragraph (B) of the Commission's Order on Initial Decision issued September 5, 2002 in Docket Nos. RP02-99-000 and RP02-144-000.

Transco states that the purpose of the instant limited Section 4 filing is to comply with the Commission's requirement that Transco establish an unbundled gathering rate for service on the North Padre Island gathering facilities of 1.69 cents per Dth effective September 5, 2002.

Transco states that copies of the filing are being mailed to each of its affected customers, interested State Commissions and other interested parties.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-24195 Filed 9-23-02; 8:45 am]

BILLING CODE 6717-01-P